DEPARTMENT OF COMMERCE

National Oceanic and Atmospheric Administration

RIN 0648-XI19

Notice of Public Meeting for the Joint Subcommittee on Aquaculture

AGENCY: National Marine Fisheries Service (NMFS), National Oceanic and Atmospheric Administration (NOAA), Commerce.

ACTION: Notice of public meeting for the Joint Subcommittee on Aquaculture of the Committee on Science National Science and Technology Council.

SUMMARY: This notice announces the schedule and proposed agenda for a meeting of the Joint Subcommittee on Aquaculture (JSA) of the Committee on Science of the National Science and Technology Council. The JSA serves as the Federal interagency coordinating body to increase the overall effectiveness and productivity of Federal research, technology transfer, and assistance programs in support of a globally competitive, technologically advanced, and environmentally sound aquaculture industry in the United States. The meeting provides an opportunity for the subcommittee to discuss ongoing and planned activities in support of aquaculture development in the United States. The meeting will also provide an opportunity for the public to ask questions and comment on JSA activities. The meeting is open to the public and participants are encouraged to register in advance. Participants must present valid photo identification to enter the building. More information is available at http://aquaculture.noaa.gov.

DATES: The meeting is scheduled for Thursday, July 10, 2008, from 8:30 a.m. until 12:30 pm. e.s.t.

ADDRESSES: NOAA Headquarters Building #4, 1305 East-West Hwy., Room 1W611, Silver Spring, Maryland, 20910.

FOR FURTHER INFORMATION CONTACT: Gary Jensen, United States Department of Agriculture, Cooperative State Research, Education and Extension Service, 800 9th Street, Room 3409, Washington, DC (202) 401-6802, gjensen@csrees.usda.gov.

SUPPLEMENTARY INFORMATION: The Joint Subcommittee on Aquaculture was created by the National Aquaculture Act of 1980 (Public Law 96-362, 94 Stat. 1198, 16 U.S.C. 2801, et seq.) and is chaired by the Secretary of Agriculture (designee) with vice-chairs from the Department of Commerce and Department of the Interior. The purpose of the coordinating group is to increase the overall effectiveness and productivity of Federal aquaculture research, transfer, and assistance programs. In fulfilling this purpose the coordinating group:

(1) Reviews the national needs for aquaculture research, transfer, and assistance;

(2) Assesses the effectiveness and adequacy of Federal efforts to meet those national needs;

(3) Undertakes planning, coordination, and communication among Federal agencies engaged in the science, engineering, and technology of aquaculture;

(4) Collects, compiles, and disseminates information on aquaculture;

(5) Encourages joint programs among Federal agencies in areas of mutual interest; and;

(6) Recommends specific actions on issues, problems, plans, and programs in aquaculture.

The JSA addresses issues of national scope and importance and may form national task forces, working groups or special projects to facilitate a coordinated, systematic approach to addressing critical issues and needs. The JSA reports to the Committee on Science of the National Science and Technology Council.

The agenda for this meeting is as follows:

Thursday, July 10, 2008—8:30 a.m. to 12:30 p.m. EST

Agenda

I. Overview of Joint Subcommittee on Aquaculture Activities

II. Reports from JSA Task Forces and Working Groups

a. Working Group on Aquaculture Drugs, Vaccines and Pesticides

b. National Aquatic Animal Health Task Force on Aquaculture

c. National Aquaculture Research and Technology Task Force

III. Reports on other Federal Interagency Initiatives

IV. Questions and comments on JSA activities

This meeting will be open to the public. Participants must have a valid photo ID to gain entrance to the building. Registration information and directions are available online at: http://aquaculture.noaa.gov.

Dated: May 28, 2008.
Samuel D. Rauch III,
Deputy Assistant Administrator For Regulatory Programs, National Marine Fisheries Service.

[FR Doc. E8-12320 Filed 6-2-08; 8:45 am]

BILLING CODE 3510-22-S